NATIONAL SCIENCE FOUNDATION

Advisory Committee for Geosciences; Notice of Meeting

In accordance with the Federal Advisory Committee Act (Pub. L. 92-463, as amended), the National Science Foundation announces the following meeting:

Name: Advisory Committee for Geosciences (1755).

Dates/Time: November 1, 2001—8:30 a.m.-5:30 p.m., November 2, 2001—8:30 a.m.-3 p.m.

Place: Holiday Inn Arlington at Ballston in the Fairfax & Glebe Rooms, I-66 and Glebe Road, 4610 North Fairfax Drive, Arlington, VA 22203.

Type of Meeting: Open.

Contact Person: Dr. Thomas Spence, Directorate for Geosciences, National Science Foundation, Suite 705, 4201 Wilson Boulevard, Arlington, Virginia 22230, Phone 703-292-8500.

Minutes: May be obtained from the contact person listed above.

Purpose of Meeting: To provide advice, recommendations, and oversight concerning support for research, education, and human resources development in the geosciences.

Agenda

Day 1

Opening and agenda

Directorate activities and plans

GPRA

Divisional Subcommittee Meetings

Day 2

Education, Human Resources, and Diversity

Directorate activities and plans

Dated: October 9, 2001.
Susanne Bolton,
Committee Management Officer.

[FR Doc. 01-25769 Filed 10-12-01; 8:45 am]

BILLING CODE 7555-01-M